FEDERAL ELECTION COMMISSION

Sunshine Act Notice

AGENCY: Federal Election Commission.

DATES: Date and Time: Thursday, January 12, 2012 at 10 a.m.

Place: 999 E Street NW., Washington, DC (Ninth Floor)

Status: This Meeting will be Open to the Public.

Items to be Discussed:

Correction and Approval of the Minutes for the Meeting of December 15, 2011.

Draft Advisory Opinion 2011-24: Louder Solutions, LLC, d/b/a StandLouder.com.

Management and Administrative Matters.

Individuals who plan to attend and require special assistance, such as sign language interpretation or other reasonable accommodations, should contact Shelley E. Garr, Deputy Secretary, at (202) 694-1040, at least 72 hours prior to the hearing date.

PERSON TO CONTACT FOR INFORMATION: Judith Ingram, Press Officer, Telephone: (202) 694-1220.

Shelley E. Garr,
Deputy Secretary of the Commission.

[FR Doc. 2012-230 Filed 1-5-12; 4:15 pm]

BILLING CODE 6715-01-P